DEPARTMENT OF LABOR

Office of Worker's Compensation Programs

20 CFR Part 726

RIN 1240-AA16

Black Lung Benefits Act: Authorization of Self-Insurers

AGENCY: Office of Workers' Compensation Programs, Labor.

ACTION: Notice of proposed rulemaking; extension of comment period.

SUMMARY: The Department of Labor is extending the comment period for a proposed rule that would update the process for coal mine operators to apply for authorization to self-insure, the requirements operators must meet to qualify to self-insure, the amount of security self-insured operators must provide, and the process for operators to appeal determinations made by the Office of Workers' Compensation Programs (OWCP). Since the proposed rule was published, the Department has received multiple requests from interested parties for the Department to provide additional time for them to develop and submit their comments on the proposal. In response to those requests, the Department is extending the comment period.

DATES: The comment period for the proposed rule published on January 19, 2023, at 88 FR 3349, is extended. Written comments on the proposed rule must be received by April 19, 2023.

ADDRESSES: You may submit written comments by any of the following methods. To facilitate receipt and processing of comments, OWCP encourages interested parties to submit their comments electronically.

• Federal eRulemaking Portal: https://www.regulations.gov. Follow the instructions on the website for submitting comments.

• Facsimile: (202) 693-1395 (this is not a toll-free number). Only comments of ten or fewer pages, including a fax cover sheet and attachments, if any, will be accepted by fax.

• Regular Mail/Hand Delivery/Courier: Submit comments on paper to the Division of Coal Mine Workers' Compensation, Office of Workers' Compensation Programs, U.S. Department of Labor, 200 Constitution Avenue NW, Suite S3229-DCWMC, Washington, DC 20210. The Department's receipt of U.S. mail may be significantly delayed due to security procedures. You must take this into consideration when preparing to meet the deadline for submitting comments.

Instructions: Your submission must include the agency name and the Regulatory Information Number (RIN) for this rulemaking. Caution: All comments received will be posted without change to https://www.regulations.gov. Please do not include any personally identifiable or confidential business information you do not want publicly disclosed.

Docket: For access to the rulemaking docket and to read background documents or comments received, go to https://www.regulations.gov. Although some information (e.g., copyrighted material) may not be available through the website, the entire rulemaking record, including any copyrighted material, will be available for inspection at OWCP. Please contact the individual named below if you would like to inspect the record.

FOR FURTHER INFORMATION CONTACT: Michael Chance, Director, Division of Coal Mine Workers' Compensation, Office of Workers' Compensation Programs, U.S. Department of Labor, 200 Constitution Avenue NW, Suite S3229-DCWMC, Washington, DC 20210. Telephone: 1-800-347-2502. This is a toll-free number. TTY/TDD callers may dial toll-free 1-877-889-5627 for further information.

SUPPLEMENTARY INFORMATION: The Black Lung Benefits Act (BLBA) requires every coal mine operator to secure the payment of benefits for which it may be found liable either by purchasing commercial insurance or by qualifying as a self-insurer “in accordance with regulations prescribed by the Secretary.” 30 U.S.C. 933(a); see also 30 U.S.C. 932(b); 20 CFR 726.1. On January 19, 2023, the Department issued a Notice of Proposed Rulemaking to update the process and requirements for coal mine operators to apply for and receive authorization to self-insure their liabilities under the BLBA. The public comment period for the NPRM was set to close on March 20, 2023. However, OWCP has received requests from several stakeholders to extend the comment period by 60 days. The stakeholders explained that they need additional time to review the NPRM, assess its impacts on their operations or members' operations, gather information on the availability and cost of surety bonds, and prepare meaningful comments.

OWCP agrees to an extension and believes a 30-day extension of the public comment period is sufficient and strikes an appropriate balance between the agency's need for timely input and stakeholders' requests for additional time to prepare comprehensive comments. Therefore, the public comment period will be extended until April 19, 2023.

Signed at Washington, DC.
Christopher J. Godfrey,
Director, Office of Workers' Compensation Programs.

[FR Doc. 2023-04322 Filed 3-6-23; 8:45 am]

BILLING CODE 4510-CK-P